DEPARTMENT OF TRANSPORTATION

Federal Aviation Administration

Aging Transport Systems Rulemaking Advisory Committee

AGENCY: Federal Aviation Administration (FAA), DOT.

ACTION: Notice of new taskings for the Aging Transport Systems Rulemaking Advisory Committee.

SUMMARY: Notice is given of the new taskings assigned to and accepted by the Aging Transport Systems Rulemaking Advisory Committee. This notice informs the public of the activities of the Committee.

FOR FURTHER INFORMATION CONTACT: Charles Huber, Manager, Program Management Branch, ANM-114, Executive Director of ATSRAC, Federal Aviation Administration, 1601 Lind Avenue, SW, Renton, WA 98055; telephone (425) 227-2589 or fax (425) 227-1320.

SUPPLEMENTARY INFORMATION:

Background

In response to the White House Commission on Aviation Safety and Security, the FAA formed the Aging Non-Structural Systems Study Team, which developed the FAA's approach to improving the management of aging wire systems. To assist in fulfilling the actions specified in the Aging Non-Structural Systems Plan, we have established an Aging Transport Systems Rulemaking Advisory Committee (ATSRAC) to provide advice and recommendations to the FAA Administrator, through the Associate Administrator for Regulation and Certification, on airplane system safety issues like aging wire systems. The ATSRAC was initially tasked in 1998 with five tasks, which encompassed collecting data on aging wiring systems through airplane inspections, reviewing airplane manufacturer's service information, reviewing operators maintenance programs, and providing the FAA with recommendations to enhance the safety of these systems.

It should be noted that the results and recommendations from the initial taskings indicate that problems associated with systems on aging airplanes are not completely related to the degradation over time of wire systems. Inadequate installation and maintenance practices can lead to what is commonly referred to as an “aging system” problem. As such, the scope of the Committee is not limited solely to age-related issues, but includes improving the continued airworthiness of airplane systems, and in particular wire systems.

This notice informs the public of four new tasks assigned to and accepted by ATSRAC. These new tasks are intended to facilitate implementation of earlier recommendations of ATSRAC. The ATSRAC has chosen to establish harmonization working groups (HWG) to provide technical support in developing its recommendations to the Federal Aviation Administration. The HWG's will establish working methods to ensure coordination among the four groups and coordination with working groups established by the Aviation Rulemaking Advisory Committee. This coordination is required to ensure efficient use of resources, continuity in related decisions, and to reduce duplication of efforts. The new tasks and harmonization working groups follow:

I. Wire System Certification Requirements Harmonization Working Group

This group should be comprised of representatives and experts from type certificate and supplemental type certificate holders, operators, and regulatory authorities.

• Review all 14 CFR part 25 and JAR 25 requirements and ATSRAC and ARAC recommendations related to wiring systems.

• Submit recommendations consolidating existing paragraphs and creating a new section dedicated to wire system requirements.

• Identify design and certification requirements for a new wire system rule that would account for aging effects.

• Identify requirements to conduct wire system safety assessments. Review § 25.1309, AC 25.1309-1A (or latest revision), corresponding JAR-25 material, and related ARAC recommendations and recommend, if appropriate, particular methods of compliance with § 25.1309 that should be mandated in a new wire system rule.

• Review existing FAA and JAA guidance, related ATSRAC and ARAC recommendations, and industry documentation and guidance for wire separation requirements.

• Recommend, if appropriate, a comprehensive wire separation regulation (in addition to 25.1353).

• Recommend requirements for special identification of wire and/or wire bundles based on the airplane level of effect of failures of systems contained in a wire bundle.

• Review and revise, as appropriate, existing advisory material, guidance and policies and related ARAC recommendations on design and installation of wiring systems, in consideration of aging effects on wiring noted in previous recommendations submitted by ATSRAC.

II. Standard Wire Practice Manual (SWPM) Harmonization Working Group

The composition of this working group should include technical representatives from the Air Transport Association, operators [specify type, i.e. repair station, air carrier, etc.], aircraft and component manufacturers, and regulatory authorities.

• Define the standard format and content of an SWPM in consideration of ATSRAC recommendations on the SWPM.

• Recommend, as appropriate, changes to existing SWPM's required by airline and repair station programs.

III. Enhanced Training Program for Wire Systems Harmonization Working Group

The composition of this working group should include technical expertise from air carrier operators, repair stations, other operators of transport category aircraft, regulatory authorities. Specific expertise is needed in the areas of training program development, wiring, and avionics maintenance.

• Develop and recommend a wire system training program that could be incorporated into an FAA advisory circular and JAA advisory material. The recommendation must consider training requirements that address all specific issues contained in ATSRAC's recommendation concerning Enhanced Maintenance Criteria for Systems.

• Identify and recommend SWPM minimum recurrent training requirements for maintenance technicians with particular focus on aging and degradation of wiring systems.

IV. Enhanced Maintenance Criteria for Systems Harmonization Working Group

The composition of this working group should include technical expertise in wiring/avionics maintenance, maintenance program development, and use of Instructions for Continued Airworthiness.

• Develop recommendations for enhanced maintenance criteria for systems in consideration of the elements of previous recommendations in the ATSRAC, including the enhanced zonal analysis program. The recommended program must consider related conclusions and recommendations from ATSRAC's Intrusive Inspection Report. The recommendations will form the basis for an FAA advisory circular and JAA Advisory Circular Joint (ACJ) directed toward part 25 transport category aircraft currently being used in part(s) 91, 121, 125, and 129 operations.

• Review recommendations from ATSRAC's report concerning Maintenance Practices, particularly the “zonal analysis procedure” methodology.

• Provide certain information that will allow development of regulatory text for a Special Federal Aviation regulation (SFAR) for Performance of the Enhanced Zonal Analysis Procedure (EZAP) applicable to type certificate holders and supplemental type certificate holders who install wire bundles or significantly affect the installation of existing wiring. Recommendations should include timelines for aircraft type design holders to complete their application for the EZAP logic for each aircraft.

• Recommend wire system data for inclusion in Appendix H to part 25, Instructions for Continued Airworthiness.

ATSRAC Acceptance of Taskings

ATSRAC has accepted these four taskings and has agreed to provide the FAA with its final recommendations by August 2002. The tasking statements in this notice are a summary of the four taskings that ATSRAC accepted at the April 25, 2001 ATSRAC meeting in Washington, DC. The Committee has chosen to assign the tasks to four separate harmonization working groups. These working groups will serve as staff to the ATSRAC to assist the Committee in writing technical reports that will allow the FAA to complete its development of associated rulemaking language and advisory material. Working group documents will be reviewed, deliberated, and approved by ATSRAC. If ATSRAC accepts the working groups' documents, they will be forwarded to the FAA as ATSRAC recommendations.

The working groups should coordinate with other working groups, organizations, and specialists as appropriate. The working groups will identify to ATSRAC the need for additional new working groups when existing groups do not have the appropriate expertise to address certain tasks.

Working Group Activity

The working groups are expected to comply with the procedures adopted by ATSRAC. As part of the procedures, each working group is expected to:

1. Recommend a work plan for completion of the task, including the rationale supporting such a plan, for consideration by the ATSRAC following the establishment and selection of the working group.

2. Give a detailed conceptual presentation of proposed recommendations prior to proceeding with the work stated in item 3 below.

3. Draft a report and/or any other collateral documents the working group determines to be appropriate and submit them to the ATSRAC for review and approval by July 2002.

4. Provide a status report at each meeting of the ATSRAC.

Participation in the Working Group

Each of the working groups will be composed of experts having an interest in the assigned task. Participants of the working groups should be prepared to devote a significant portion of their time to the ATSRAC task through August 2002. A working group member need not be a representative or a member of the ATSRAC.

An individual who has expertise in the subject matter and wishes to become a member of one of the working groups should contact: Charles Huber (see For Further Information Contact section), expressing that desire, describing his or her interest in the tasks, and stating the expertise he or she would bring to the working group. All requests to participate must be received no later than June 28, 2001. The requests will be reviewed by the ATSRAC Chair, the Executive Director, and the working group Chair, and the individuals will be advised whether or not requests can be accommodated.

The Secretary of Transportation has determined that the formation and use of ATSRAC are necessary and in the public interest in connection with the performance of duties imposed on the FAA by law.

Meetings of the ATSRAC will be open to the public. Meetings of the individual working groups will not be open to the public, except to the extent that individuals with an interest and expertise are selected to participate. No public announcement of working group meetings will be made.

Issued in Washington, DC, on May 23, 2001.
Anthony F. Fazio,
Director, Office of Rulemaking.

[FR Doc. 01-13438 Filed 5-25-01; 8:45 am]

BILLING CODE 4910-13-M